DEPARTMENT OF COMMERCE

Submission for OMB Review; Comment Request

The Department of Commerce will submit to the Office of Management and Budget (OMB) for clearance the following proposal for collection of information under the provisions of the Paperwork Reduction Act (44 U.S.C. chapter 35).

Agency: U.S. Census Bureau.

Title: American Community Survey.

OMB Control Number: 0607-0810.

Form Number(s): ACS-1, ACS-1(SP), ACS-1(PR), ACS-1(PR)SP, ACS-1(GQ), ACS-1(PR)(GQ), GQFQ, ACS CAPI (HU), ACS RI (HU), and AGQ QI, AGQ RI.

Type of Request: Regular Submission.

Number of Respondents: 3,760,000.

Average Hours Per Response: 40 minutes for the average household questionnaire.

Burden Hours: The estimate is an annual average of 2,455,868 burden hours.

Needs and Uses: The U.S. Census Bureau requests authorization from the Office of Management and Budget (OMB) for revisions to the American Community Survey (ACS).

The American Community Survey (ACS) is one of the Department of Commerce's most valuable data products, used extensively by businesses, non-governmental organizations (NGOs), local governments, and many federal agencies. In conducting this survey, the Census Bureau's top priority is respecting the time and privacy of the people providing information while preserving its value to the public.

The Census Bureau has a robust research program for the ACS focused on enhancing quality of the respondent experience, survey operations, and data. In 2017, the Census Bureau conducted the 2017 Pressure Seal Mailing Materials Test to evaluate the impact on self-response and cost of replacing letters and postcards in the American Community Survey (ACS) mail materials with pressure seal mailers. A pressure seal mailer is a one-page document with a pre-applied adhesive that is folded and sealed with pressure. This type of mailer costs less than a letter with an envelope and more than a postcard. However, pressure seal mailers can conceal personal information while postcards cannot. Replacing a postcard with a pressure seal mailer provides an opportunity to increase the use of the internet user ID in the text of the ACS mailings. Based on the results of this test, a pressure seal mailer will be used in place of the Reminder Letter (second mailing) and the Additional Reminder Postcard (fifth mailing). This information is new since the publication of the 60-day Federal Register Notice, FR-Doc. 2017-26726.

The content of the proposed 2019 ACS questionnaire and data collection instruments for both Housing Unit and Group Quarters operations reflect changes to content and instructions that were proposed primarily as a result of the 2016 ACS Content Test, but also as a result of interagency consultation. The 2019 content changes cover several topics discussed below.

Telephone Service

The rise of cell phone and smartphone usage, and other complex and varied telephone services and equipment, has changed how people view and use telephones in a household. Research also suggests that some respondents, or in some cases interviewers, may not fully understand the current wording of the survey question on Telephone Service, the additional instructions that accompany the question, or what the question is intending to capture. To make the intent of the telephone service question easier to understand by respondents and interviewers, the question was made a stand-alone question and additional instructions are provided on the types of telephones and equipment respondents should include when answering the question. Currently, telephone service is asked as part of a broader question on housing characteristics.

Health Insurance

A question on Health Insurance Premiums and Subsidies will be introduced to the ACS immediately following the current question on health insurance coverage. The question on premiums and subsidies asks if a person pays a health insurance premium, and if so, if he or she received a subsidy to help pay the premium. This question will provide more accurate information about coverage categories than available from the existing ACS question on current coverage alone. These data will enhance the ability of the U.S. Department of Health and Human Services and the states to administer Medicaid, CHIP, and the exchanges, and monitor private insurance coverage.

In addition, one response option for the health insurance question will be changed as a result of consultation with the U.S. Department of Veterans Affairs (VA). In July 2017, the VA contacted the Census Bureau and requested a change to the VA response option on the health insurance question. The proposed change is to ensure the accuracy of the estimates of VA health insurance coverage. The VA response option for the health insurance question will be truncated from “VA (including those who have ever used or enrolled for VA health care)” to “VA (including those who have enrolled for VA health care).” This information is new since the publication of the 60-day Federal Register Notice, FR Doc. 2017-26726.

Journey to Work

Changes to the Commute Mode question were motivated by changes in public transportation infrastructure across the United States, particularly the increased prevalence of light rail systems and the need to update and clarify the terminology used to refer to commute modes that appear as categories on the ACS. To improve the Commute Mode question, some of the public transportation modes were modified. The category “Streetcar or trolley car” was changed to “Light rail, street car, or trolley,” “Subway or elevated” was changed to “Subway or Elevated Rail,” and “Railroad” was changed to “Long-distance train or commuter rail.” These three rail-related categories were also slightly reordered so that “Subway or elevated rail,” the most prevalent rail mode, is listed first. The phrase “trolley bus” was dropped and the phrase “work at home” was changed to “work from home.” The subheading of instructions was simplified to read “Mark ONE box for the method of transportation used for most of the distance.” The Time of Departure question has historically raised concerns about privacy because of the reference to the time a person leaves home. To phrase the question in a less intrusive way, the question was changed to ask what time the person's trip to work began and to remove the word “home.”

Weeks Worked

The changes to the question on the number of weeks worked were made to allow the Census Bureau to provide high-quality, continuous measures for the number of weeks worked, such as means, medians, and aggregates. In addition, the changes enable additional specificity for weeks worked, particularly with hours worked, income, and occupation. Part A of the question regarding the time period of interest was rephrased from working “50 or more weeks” to “EVERY week” and additional information is provided in the second sentence. The original instruction of “Count paid time off as work” was changed to “Count paid vacation, paid sick leave, and military service as work.” For part B of the question, the response option was changed to a write-in response, the reference period (“the PAST 12 MONTHS”) is repeated, and new guidance clarifies what to count as work.

Class of Worker

Changes to the Class of Worker question improve overall question clarity, refine the definition of unpaid family workers, explicitly define a category for Active Duty military, improve question wording and categories, and improve the layout of the question. Response categories were grouped under three general headings. “Active Duty” was added as one of the response categories in the government section, and the “Active Duty” checkbox was dropped from the Employer Name question. Question and response category wording were revised for clarity. To signal that all six employment characteristics questions refer to the same job (including industry and occupation), the series was renumbered from separate questions to a single series with sub-questions. Lastly, the instructional text and heading for the series immediately preceding Class of Worker was simplified.

Industry and Occupation

Ongoing research of the Industry and Occupation question write-in responses has demonstrated that the questions were unclear and confusing to respondents, who were unable to answer at all or answer with sufficient clarity to provide useful data. To increase clarity and improve occupational specificity, these questions were revised to include new and consistent examples, in terms of content and length, and include modified question wording. The number of characters for write-in responses about “Job Duties” was expanded from 60 to 100 characters.

Retirement Income

Over the last 40 years, defined contribution retirement plans have become increasingly common while defined benefit plans (such as pensions) have become less so. Federal surveys have lagged in addressing these newer forms of retirement income and subsequently underreport retirement income. The Retirement, Survivor, and Disability Income question was changed to improve income reporting, increase item response rates, reduce reporting errors, and update questions on retirement income and the income generated from retirement accounts and all other assets in order to better measure retirement income data. The question was expanded to ask about “retirement income, pensions, survivor or disability income.” In addition, the instructions that accompany the question were expanded to note that income from “a previous employer or union, or any regular withdrawals or distributions from IRA, Roth IRA, 401(k), 403(b) or other accounts specifically designed for retirement” should be included.

Relationship

For several years, the Census Bureau has been testing revised relationship questions to improve the estimates of coupled households. The 1990 Census first introduced “Unmarried partner” as a response category to the Relationship to Householder question. The 2000 and 2010 Censuses built upon this work, changing the processing of responses to the Relationship question to more accurately represent same-sex couples. The Census Bureau discovered a statistical error in the 2010 Census data that resulted from opposite-sex couples mismarking their sex. This error had the potential to inflate the estimates of same-sex, married couple households. The Census Bureau released a set of modified state-level, same-sex household estimates from the 2010 Census because of this error, and also began new research efforts to improve the Relationship question.

The Relationship question has been revised to improve measurement of same-sex couples. The existing “Husband or wife” and “Unmarried partner” response categories were each split into two versions: “Opposite-sex husband/wife/spouse,” “Opposite-sex unmarried partner,” “Same-sex husband/wife/spouse,” and “Same-sex unmarried partner.” Additionally, the two unmarried partner categories were moved from near the end of the list of response options to near the beginning, immediately after the husband/wife/spouse options. An automated relationship/sex consistency check will be included in electronic instruments to provide respondents an opportunity to change their sex or relationship responses when there is an inconsistency in the reported sex of an individual and whether their relationship was reported as “Opposite-sex” or “Same-sex” husband/wife/spouse or unmarried partner. This check reduces the inconsistency in responses and improves the quality of the relationship data. The category “Roomer or boarder” has been dropped from the Relationship question.

Race and Hispanic Origin

The 2016 ACS Content Test served as an operational test of the race and ethnicity questions that were previously tested on the 2015 National Content Test (NCT). Recommendations about the race and ethnicity questions adopted for the 2020 Census and production ACS were based on the results of the census tests and decisions made in consultation with OMB; the 2016 ACS Content Test provided an opportunity to test data collection modes and examine other data not available in the 2015 NCT. The 2016 ACS Content Test evaluated interviewer-administered collection modes, assessed the race and ethnicity questions against demographic and socioeconomic data, and separately compared the race and ethnicity results to data from the ancestry question. In 2020 or later, the ACS will adopt the final version of the race and Hispanic origin questions that are implemented for the 2020 Census.

Affected Public: Individuals or households.

Frequency: Response to the ACS is on a one-time basis.

Respondent's Obligation: Mandatory.

Legal Authority: Title 13, United States Code, Sections 141, 193, and 221.

This information collection request may be viewed at www.reginfo.gov. Follow the instructions to view Department of Commerce collections currently under review by OMB.

Written comments and recommendations for the proposed information collection should be sent within 30 days of publication of this notice to OIRA_Submission@omb.eop.gov or fax to (202)395-5806.

Sheleen Dumas,
Departmental Lead PRA Officer, Office of the Chief Information Officer.

[FR Doc. 2018-06166 Filed 3-27-18; 8:45 am]

BILLING CODE 3510-07-P